DEPARTMENT OF ENERGY

Federal Energy Regulatory Commission

[Docket No. EL16-31-000]

Sage Grouse Energy Project, LLC v. PacifiCorp; Notice of Complaint

Take notice that on January 19, 2016, pursuant to Rules 206(a) of the Federal Energy Regulatory Commission's (Commission) Rules of Practice and Procedure, 18 CFR 385.206(a), Sage Grouse Energy Project, LLC (Complainant or Sage Grouse) filed a formal complaint against PacifiCorp (Respondent) alleging that Respondent improperly determined that Sage Grouse is not a Qualified Facility within the meaning of the Public Utility Regulatory Policies Act of 1978 and conducted Sage Grouse's Feasibility Study erroneously, as more fully explained in the complaint.

Complainant certifies that copies of the complaint were served upon each person designated on the official service list compiled by the Commission in this proceeding.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 8, 2016.

DATED: January 20, 2016.
Nathaniel J. Davis, Sr.,
Deputy Secretary.

[FR Doc. 2016-01465 Filed 1-25-16; 8:45 am]

BILLING CODE 6717-01-P